DEPARTMENT OF LABOR

Employment and Training Administration

[TA-W-74,575; TA-W-74,575D]

International Business Machines (IBM), Global Sales Operations Organization, Sales and Distribution Business Manager Roles; One Teleworker Located in Charleston, WV; International Business Machines (IBM), Global Sales Operations Organization, Sales and Distribution Business Unit, Relations Analyst and Band 8 Program Manager Roles; One Teleworker Located in Louisville, KY; Amended Certification Regarding Eligibility To Apply for Worker Adjustment Assistance

In accordance with Section 223 of the Trade Act of 1974, as amended (“Act”), 19 U.S.C. 2273, the Department of Labor issued a Certification of Eligibility to Apply for Worker Adjustment Assistance on November 12, 2010, applicable to workers of International Business Machines (IBM), Global Sales Operations Organization, Sales and Distribution Business Unit, Relations Analyst and Band 8 Program Manager Roles, one teleworker location in Charleston, West Virginia. The notice was published in the Federal Register on November 23, 2010 (75 FR 71460). The workers provide Relations Analyst and Band 8 Program Manager services.

At the request of the petitioner, the Department reviewed the certification for workers of the subject firm.

New findings show that worker separations occurred during the relevant time period affecting one teleworker in Louisville, Kentucky of International Business Machines (IBM), Global Sales Operations Organization, Sales and Distribution Business Unit, Relations Analyst and Band 8 Program Unit. The teleworker in Louisville, Kentucky provided Relations Analyst and Band 8 Program Manager services.

Accordingly, the Department is amending the certification to include one teleworker in Louisville, Kentucky of International Business Machines (IBM), Global Sales Operations Organization, Sales and Distribution Business Unit, Relations Analyst and Band 8 Program Unit.

The intent of the Department's certification is to include all workers of the subject firm who were adversely affected by a shift of services like or directly competitive with the Relations Analyst and Band 8 Program Manager services supplied by the workers to a foreign country.

The amended notice applicable to TA-W-74,575 is hereby issued as follows:

All workers of International Business Machines (IBM) Global Sales Operations Organization, Sales and Distribution Business Unit, Relations Analyst and Brand 8 Program Manager Roles, one teleworker located in Charleston, West Virginia (TA-W-74,575); International Business Machines (IBM), Global Sales Operations Organization, Sales and Distribution Business Unit, Relations Analyst and Brand 8 Program Manager Roles, one teleworker located in Dallas, Texas (TA-W-74,575A); International Business Machines (IBM), Global Sales Operations Organization, Sales and Distribution Business Unit, Relations Analyst and Brand 8 Program Manager Roles, two teleworkers located in Atlanta, Georgia (TA-W-74,575B); International Business Machines (IBM), Global Sales Operations Organization, Sales and Distribution Business Unit, Relations Analyst and Brand 8 Program Manager Roles, one teleworker located in Phoenix, Arizona (TA-W-74,575C); and International Business Machines (IBM), Global Sales Operations Organization, Sales and Distribution Business Unit, Relations Analyst and Brand 8 Program Manager Roles, one teleworker located in Louisville, Kentucky (TA-W-74,575D), who became totally or partially separated from employment on or after August 25, 2009, through November 12, 2012, and all workers in the group threatened with total or partial separation from employment on the date of certification through two years from the date of certification, are eligible to apply for adjustment assistance under Chapter 2 of Title II of the Trade Act of 1974, as amended.

Signed in Washington, DC, this 17th day of December 2010.
Michael W. Jaffe,
Certifying Officer, Office of Trade Adjustment Assistance.

[FR Doc. 2010-33053 Filed 12-30-10; 8:45 am]

BILLING CODE 4510-FN-P